Title 3—

The President

Proclamation 9798 of October 4, 2018

National Manufacturing Day, 2018

By the President of the United States of America

A Proclamation

On National Manufacturing Day, we renew our commitment to restoring America to its rightful place as a global leader in manufacturing. Revitalizing our Nation's manufacturing sector is a pillar of my Administration's economic agenda. Through clear-eyed economic and trade policies and advances made possible by cutting-edge research and development, American industry is thriving once again. Today, our country's manufacturers are more confident than ever before about investing in factories and workers right here at home.

My Administration is working tirelessly to create an environment wherein manufacturers and their workers have increased opportunities to grow and create jobs. Our economic policies, including the Tax Cuts and Jobs Act and the elimination of unnecessary and burdensome regulations, are delivering real results. Since my election, we have created nearly 400,000 manufacturing jobs. Last year alone, American manufacturers contributed $2.2 trillion to our economy; and in the past 12 months, the manufacturing sector has experienced one of the best job market performances in 23 years.

Against this background, we continue to champion a level playing field for American manufacturers and American workers. I delivered on my promise to renegotiate the North American Free Trade Agreement (NAFTA) when I recently announced the United States-Mexico-Canada Agreement (USMCA). For years, NAFTA incentivized the offshoring of American businesses, and many manufacturing jobs left the United States as a result. Once approved by the Congress, the USMCA will rebalance and modernize trade between the United States, Mexico, and Canada in a manner that greatly benefits American manufacturing, agriculture, and services—and so many other sectors of our robust economy. Additionally, earlier this year, we revised our bilateral trade agreement with South Korea to strengthen America's manufacturing sector and bring back high-paying manufacturing jobs for American workers. Furthermore, in July of 2017, I issued an Executive Order that directed the Secretary of Defense to assess how to strengthen the manufacturing and defense industrial base and supply chain resiliency of the United States. The Department of Defense has completed this assessment, and my Administration is committed to taking action in response to ensure that we can meet new and unforeseen challenges to our defense industrial base.

The credit for the success of these efforts rests with our great American workers. That is why I have pledged to invest in both students and workers by providing opportunities for education and training that will help more hardworking men and women thrive in the modern workplace. In July of 2018, I issued an Executive Order establishing the President's National Council for the American Worker and the American Workforce Policy Advisory Board. The order emphasizes our economy's high demand for workers with the technical acumen to fill open jobs in today's workforce. I also signed into law a reauthorization of the Carl D. Perkins Career and Technical Education Act, which provides students and workers with the critical skills sought by manufacturers. We will continue efforts to provide our students with access to high-quality education in science, technology, engineering, and mathematics so that they are better equipped to innovate and compete in today's economy.

On this National Manufacturing Day, we acknowledge the changes that have swept across our economy, including the widespread adoption of innovative technology, advances in artificial intelligence, and the application of the internet to everyday objects and appliances. We recognize that these changes bring new challenges for our workers in a technologically advanced, increasingly dynamic world. With the same determination and resourcefulness that has always defined America, we rise to meet these challenges, and we proudly stand with our manufacturers and their workers as they continue to set the global standard for quality and innovation.

NOW, THEREFORE, I, DONALD J. TRUMP, President of the United States of America, by virtue of the authority vested in me by the Constitution and the laws of the United States, do hereby proclaim October 5, 2018, as National Manufacturing Day. I call upon all Americans to celebrate the entrepreneurs, innovators, and workers in manufacturing who are making our communities strong.

IN WITNESS WHEREOF, I have hereunto set my hand this fourth day of October, in the year of our Lord two thousand eighteen, and of the Independence of the United States of America the two hundred and forty-third.

[FR Doc. 2018-22186

Filed 10-9-18; 8:45 am]

Billing code 3295-F9-P